DEPARTMENT OF LABOR

Office of the Secretary

Submission for OMB Review; Comment Request

June 28, 2001.

The Department of Labor (DOL) has submitted the following public information collection requests (ICRs) to the Office of Management and Budget (OMB) for review and approval in accordance with the Paperwork Reduction Act of 1995 (Pub. L. 104-13, 44 U.S.C. Chapter 35). A copy of each ICR, with applicable supporting documentation, may be obtained by calling the Department of Labor. To obtain documentation contact Darrin King at (202) 693-4129 or E-Mail King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: Extension of a currently approved collection.

Title: Equal Employment Opportunity in Apprenticeship and Training—29 CFR Part 30.

OMB Number: 1205-0224.

Affected Public: Business or other for-profit; not-for-profit institutions; individuals or households; Federal Government; and State, Local, or Tribal Government.

Section No. | Respondents | Frequency | Responses | Average time per response | Estimated burden hours
30.3 | 1,497 | 1-time/sponsor | 1,497 | .5 hours | 749
30.4 | 112 | 1-time/sponsor | 112 | 1 hours | 112
30.5 | 5,889 | 1-time/applicant | 5,889 | .5 hours | 2,945
30.6 | 50 | 1-time/sponsor | 50 | 5 hours | 250
30.8 | 37,425 | 1-time/applicant | 37,425 | .02 hours | 624
30.8 | 30 | 1-time/program | 18,713 | .08 hours | 1,559
ETA 9039 | 50 | 1-time/applicant | 50 | .5 hours | 25
Total | * 37,505 |  | 63,736 |  | 6,264
* Number of respondents equal 37,425 Sponsors, 30 State Agencies, and 40 Applicants/Apprentices.

Total Annualized Capital/Startup Costs: $0.

Total Annual Costs (operating/maintaining systems or purchasing services): $0.

Description: Title 29 CFR Part 30 sets forth policies and procedures to promote equality of opportunity in apprenticeship programs registered with the U.S. Department of Labor and recognized State Apprenticeship Agencies.

Agency: Employment and Training Administration (ETA).

Type of Review: Extension of a currently approved collection.

Title: Petition for NAFTA Transitional Adjustment Assistance.

OMB Number: 1205-0342.

Affected Public: Individuals or households; business or other for-profit; and State, Local, or Tribal Government.

Activity | Number of respondents/Responses | Frequency | Average time per response | Estimated burden hours
ETA-9042/ETA-9042-1 | 1,000 | On occasion | .25 hours | 250
State Reviews | 1,000 | On occasion | .08 hours | 80
Total |  |  |  | 330

Total Annualized Capital/Startup Costs: $0.

Total Annual Costs (operating/maintaining systems or purchasing services): $0.

Description: The forms ETA-9042 and ETA-9042-1 are used by American workers to submit a petition for adjustment assistance benefits in accordance with the provisions of Subchapter D, the North American Free Trade Agreement Implementation Act, amending Chapter 2 of Title II of the Trade Act of 1974.

Agency: Employment and Training Administration (ETA).

Type of Review: Extension of a currently approved collection.

Title: Work Opportunity Tax Credit (WOTC) and Welfare-to-Work (W-t-W) Tax Credit.

OMB Number: 1205-0371.

Affected Public: State, Local, or Tribal Government; business or other for-profit; and Individuals or Households.

Cite/reference | Total respondents | Frequency | Total responses | Average time per response | Estimated burden hours
Form 9057 | 52 | Quarterly | 208 | 8 hours | 1,664
Form 9058 | 52 | Quarterly | 208 | 8 hours | 1,664
Form 9059 | 52 | Quarterly | 208 | 8 hours | 1,664
Form 9061 | 200 | On occasion | 200 | 8 hours | 1,600
Form 9062 | 52 | On occasion | 150 | 8 hours | 1,200
Form 9063 | 52 | On occasion | 1,000 | 8 hours | 8,000
Form 9065 | 52 | Quarterly | 208 | 8 hours | 1,664
Recordkeeping | 52 | Annually | 52 | 997 hours | 51,884
Total | 252* |  | 2,234 |  | 69,300
*Respondents equal 52 states and 200 Employers/Consultants and job seekers.

Total Annualized Capital/Startup Costs: $0.

Total Annual Costs (operating/maintaining systems or purchasing services): $0.

Description: This information collection project is used for program planning and evaluation and for oversight and verification activities as mandated by the Revenue Act of 1978, Tax Equity Act and Fiscal Responsibility Act of 1982, Omnibus Budget Reconcilation Act of 1992, Sections 51 and 51A of the Internal Revenue Code of 1986, as amended, Small Business Act of 1996, Taxpayer Relief Act of 1997, and the Ticket to Work and Work Incentives Improvement Act of 1999.

Ira L. Mills,
Departmental Clearance Officer.

[FR Doc. 01-17399 Filed 7-10-01; 8:45 am]

BILLING CODE 4510-30-M